DEPARTMENT OF DEFENSE

Department of the Air Force

Intent To Grant An Exclusive License

AGENCY: Department of the Air Force.

ACTION: Notice.

SUMMARY: Pursuant to the provisions of part 404 of Title 37, Code of Federal Regulations, which implements Public Law 96-517, the Department of the Air Force announces its intention to grant Conceptual MindWorks, Inc., a corporation of the State of Texas, an exclusive license under the following patents: U.S. Patent No. 5,856,108, issued 5 Jan 1999 to Kiel et al., Biosynthesis of Diazomelanin and Diazoluminomelanin. U.S. Patent No. 5,902,728, issued 11 May 1999 to Parker et al., Diazodenitrification in the Manufacture of Recombinant Bacterial Biosensors. The license described above will be granted unless an objection thereto, together with a request for an opportunity to be heard, if desired, is received in writing by the addressee set forth below, within fifteen (15) days from the date of publication of this Notice.

FOR FURTHER INFORMATION CONTACT: Paul D. Heydon, Patent Attorney, Commercial Law Division, Office of the Staff Judge Advocate, 311th Human Systems Wing, Air Force Materiel Command, 8010 Chennault Path, Brooks City-Base, TX 78235, (210) 536-5359.

Bao-Anh Trinh,
Air Force Federal Register Liaison Officer.

[FR Doc. E6-2650 Filed 2-23-06; 8:45 am]

BILLING CODE 5001-05-P